DEPARTMENT OF TRANSPORTATION

Federal Aviation Administration

14 CFR Part 39

[Docket No. 86-ANE-7; Amendment 39-13822; AD 2004-21-01]

RIN 2120-AA64

Airworthiness Directives; Hartzell Propeller Inc. (Formerly Hartzell Propeller Products Division) Model HC-B5MP-3( ) /M10282A( ) +6 Five Bladed Propellers; Correction

AGENCY: Federal Aviation Administration, DOT.

ACTION: Final rule; request for comments; correction

SUMMARY: This document makes a correction to Airworthiness Directive (AD) 2004-21-01. That AD applies to certain Hartzell Propeller Inc. (formerly Hartzell Propeller Products Division) Model HC-B5MP-3( )/M10282A( )+6 five bladed propellers. We published AD 2004-21-01 in the Federal Register on October 14, 2004, (69 FR 60952). The amendment number in the Amendatory Language is incorrect. This document corrects that amendment number. In all other respects, the original document remains the same.

DATES: Effective October 25, 2004.

FOR FURTHER INFORMATION CONTACT: Tomaso DiPaolo, Aerospace Engineer, Chicago Aircraft Certification Office, FAA, Small Airplane Directorate, 2300 East Devon Avenue, Des Plaines, IL 60018; telephone: (847) 294-7031; fax: (847) 294-7834.

SUPPLEMENTARY INFORMATION: A final rule; request for comments AD, FR Doc. 04-22728, that applies to certain Hartzell Propeller Inc. (formerly Hartzell Propeller Products Division) Model HC-B5MP-3( )/M10282A( )+6 five bladed propellers, was published in the Federal Register on October 14, 2004, (69 FR 60952). The following correction is needed:

§ 39.13 [Corrected]

On page 60953, in the third column, in the Amendatory Language, in the first paragraph, in the fifth line, “Amendment 39-XXXXX” is corrected to read “Amendment 39-13822”.

Issued in Burlington, MA, on October 18, 2004.
Francis A. Favara,
Acting Manager, Engine and Propeller Directorate, Aircraft Certification Service.

[FR Doc. 04-23815 Filed 10-22-04; 8:45 am]

BILLING CODE 4910-13-P